FEDERAL COMMUNICATIONS COMMISSION

Open Commission Meeting Scheduled for Thursday, December 18, 2008, Canceled

December 12, 2008.

The Federal Communications Commission has canceled the Open Meeting on the items listed below, previously scheduled for Thursday, December 18, 2008, at 445 12th Street, SW., Washington, DC. The following items will remain on circulation for the Commissioners to vote:

Advanced Wireless Services (AWS)

• A Report and Order and Order on Reconsideration addressing service rules for fixed and mobile services, including advanced wireless services (AWS), in the 2155-2180 MHz band (AWS-3).

Program Carriage and Program Access

• A Report and Order modifying the program carriage rules and procedures and a Further Notice of Proposed Rulemaking seeking comment on the practices of programmers and broadcasters.

DTV Translators

• A Notice of Proposed Rulemaking proposing a new digital television translator service for analog loss areas.

DTV Consumer Education Notice of Apparent Liability

• An omnibus NAL against various companies for apparent violations of the Commission's DTV consumer education requirements.

E911 Location Accuracy Requirements

• A Second Report and Order addressing the geographic area over which wireless carriers must meet the Enhanced 911 (E911) location accuracy requirements.

Regulatory Framework for SDARS and WCS in the 2305-2360 MHz Band

• A Report and Order and Second Report and Order and Order addressing the a regulatory framework for the coexistence of licensees in the Satellite Digital Audio Radio Service (SDARS) and the Wireless Communications Service (WCS) in the 2305-2360 MHz frequency band.

Wireless Radio Services (WRS) Renewals

• A Notice of Proposed Rulemaking and Order addressing Amendment of Parts 1, 22, 24, 27, 74, 80, 90, 95, and 101 To Establish License Renewal and Discontinuance of Operation Policies and Procedures for Certain Wireless Radio Services; Imposition of a Freeze on the Filing of Competing Renewal Applications for Certain Wireless Radio Services and the Processing of Already-Filed Competing Renewal Applications.

Additional information concerning this meeting may be obtained from Audrey Spivack or David Fiske, Office of Media Relations, (202) 418-0500; TTY 1-888-835-5322.

Federal Communications Commission.
Marlene H. Dortch,
Secretary.

[FR Doc. E8-30100 Filed 12-15-08; 4:15 pm]

BILLING CODE 6712-01-P